DEPARTMENT OF THE INTERIOR

Bureau of Land Management

[NV-930-1430-HN; Nev-067245]

Notice of Opening Order of Public Lands; Washoe County, NV

SUMMARY: This notice opens the following described 153.48 acres of public land in Spanish Springs Valley to the operation of the public land laws:

Mount Diablo Meridian

T. 20 N., R. 20 E.,

Sec. 14, lots 1-3, SW¼NE¼.

EFFECTIVE DATE: The effective date of this Notice is November 29, 2000.

FOR FURTHER INFORMATION CONTACT: Jo Ann Hufnagle, Realty Specialist, Bureau of Land Management, Carson City Field Office, 5665 Morgan Mill Road, Carson City, NV 89701; telephone (775) 885-6000.

SUPPLEMENTARY INFORMATION: On September 5, 1967, Patent No. 27-68-0044 was issued to Washoe County pursuant to the Recreation and Public Purposes Act of June 14, 1926 (44 Stat. 741; 43 U.S.C. 869) as amended, for the above-described land. The land was never developed for recreational use and Washoe County has reconveyed that land to the United States.

At 10 a.m. on November 29, 2000, the land will become open to the operation of the public land laws generally, subject to valid existing rights, the provisions of existing withdrawals, other segregations of record and the requirements of applicable law. All valid applications received at or prior to 10 a.m. on November 29, 2000, shall be considered as simultaneously filed at that time. Those received thereafter shall be considered in the order of filing.

At 10 a.m. on December 14, 2000, the land will also be open to location under the United States mining laws. Appropriation of the land under the general mining laws prior to the date and time of restoration is unauthorized. Any such attempted appropriation, including attempted adverse possession under 30 U.S.C. 38, shall vest no rights against the United States. Acts required to establish a location and to initiate a right of possession are governed by State law where not in conflict with Federal law. The Bureau of Land Management will not intervene in disputes between rival locators over possessory rights since Congress has provided for such determination in local courts.

Dated: November 1, 2000.
Richard Conrad,
Assistant Manager, Non-renewable Resources.

[FR Doc. 00-29044 Filed 11-13-00; 8:45 am]

BILLING CODE 4310-HC-M